DEPARTMENT OF THE INTERIOR

Fish and Wildlife Service

Availability of an Environmental Assessment and Receipt of an Application for an Incidental Take Permit for the Hyundai Motor America Automotive Test Track Project in Kern County, CA

AGENCY: Fish and Wildlife Service, Interior.

ACTION: Notice of availability and receipt of application.

SUMMARY: Hyundai Motor America (HMA) and the City of California City (collectively Applicants) have applied to the Fish and Wildlife Service (Service) for an incidental take permit pursuant to section 10(a)(1)(B) of the Endangered Species Act of 1973, as amended (Act). The Service is considering issuing a 30-year permit to the Applicants that would authorize take of the threatened desert tortoise (Gopherus agassizii) incidental to otherwise lawful activities associated with the construction and operation of a proposed automotive test track project on 4,340 acres in Kern County, California. With the access road from the south and access road/waterline from the east, the project would result in the permanent removal of approximately 4,368.5 acres of occupied desert tortoise habitat, relocation of desert tortoises currently occupying the site, and acquisition of 3,228.5 acres of higher quality desert tortoise habitat. Desert tortoise impacts to 1,140 acres on the project site previously were compensated under a federal land exchange, the West Mojave Land Tenure Adjustment Act.

We request comments from the public on the proposed Habitat Conservation Plan (Plan), Environmental Assessment, and Implementing Agreement, which are available for review. The Plan describes the proposed action and the measures that the Applicant will undertake to minimize and mitigate take of the desert tortoise. To review the permit application or Environmental Assessment, see “Availability of Documents” in the SUPPLEMENTARY INFORMATION section.

DATES: We must receive your written comments on or before September 23, 2003.

ADDRESSES: Please address written comments to Field Supervisor, Ventura Fish and Wildlife Office, Fish and Wildlife Service, 2493 Portola Road, Suite B, Ventura, California 93003. You also may send comments by facsimile to (805) 644-3958.

FOR FURTHER INFORMATION CONTACT: Tim Thomas, Botanist, Ventura Fish and Wildlife Office, Barstow Sub-office; (760) 255-8890.

SUPPLEMENTARY INFORMATION:

Availability of Documents

You may obtain copies of these documents for review by contacting the above office, or by making an appointment to view the documents at the above address during normal business hours (FOR FURTHER INFORMATION CONTACT). Documents also will be available for public inspection, on our Web site at http://ventura.fws.gov., and during regular business hours at the California City Library, 9507 California City Boulevard, California City, California.

Background

Section 9 of the Act and federal regulations prohibit the “take” of fish and wildlife species listed as endangered or threatened. Take of federally listed fish and wildlife is defined under the Act as including to “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicants are proposing to construct an automotive test track facility and associated water line and access roads to evaluate the safety, performance and handling of concept, prototype and production automobiles to be manufactured at HMA's automotive assembly and manufacturing plant currently under construction in Birmingham, Alabama. HMA proposes to construct the facility on 4,340 acres located approximately 60 miles southeast of Bakersfield, California, 9 miles east of the community of Mojave, California and 0.5 mile north of State Highway 58 in Kern County, California. The proposed project is located in the west Mojave Desert. The proposed facility will consist of a 6-mile long oval test course, two access roads, a winding track, a vehicle dynamics area, a hill-up road, a straight stability road, a support building and parking lot and perimeter fencing. The proposed project includes installation of desert tortoise exclusion fencing around the 4,340-acre site perimeter and removal and relocation of desert tortoises from the site. The project also includes an off-site access road from State Highway 58 that will remove 8.5 acres of desert tortoise habitat. Finally, the City of California City proposes to build a 2-mile water line extension and widen Joshua Tree Boulevard to serve the project, which will result in adverse effects to 20 acres of desert tortoise habitat.

The 4,340-acre project site includes 1,140 acres that were part of the Western Mojave Land Tenure Adjustment (LTA) Project, a land exchange program between private parties and the U.S. Bureau of Land Management (BLM). Pursuant to a Biological Opinion issued by the Service to BLM on January 8, 1998, (6844440 (CA-063.50) (1-8-98-F-60R)), any proposed take of desert tortoise on the 1,140 acres must be authorized by the Service, but no further mitigation is required for take of the desert tortoise or impacts to its habitat.

The project site is classified by BLM as Category III habitat for desert tortoise and is occupied by desert tortoise. Category III habitat is defined as areas that are not essential to maintenance of viable populations, that contain low to medium densities, and that are not contiguous with medium- or high-density areas and in which the population is stable or decreasing. The proposed project site supports three common Mojave Desert plant communities—desert saltbush scrub, Mojave creosote bush scrub, and Joshua tree woodland. Past and current grazing of domestic sheep has degraded the site. Field survey observations also documented signs of human disturbance, including approximately 60 acres of unimproved roads, scattered shotgun shells and bullet casings, trash, and abandoned campsites and automobiles. Signs of historical military use also are found throughout the site, including ammunition casings and at least one aircraft crash site.

During directed surveys in March and April 2002, three live desert tortoises were observed on the proposed development site. An additional survey performed in May 2003 observed 8 live tortoises. Construction of the proposed project is anticipated to directly affect 834.5 acres of occupied desert tortoise habitat. In addition, the 4,340-acre site will no longer be accessible to desert tortoise due to installation of desert tortoise exclusion fencing around the perimeter of the site. The State Highway 58 access road will remove 8.5 acres of desert tortoise habitat, and the City water line extension and Joshua Tree Boulevard road access will adversely affect 20 acres of desert tortoise habitat. Impacts to 1,140 acres on the project site already have been mitigated pursuant to the LTA 1998 Biological Opinion. The Applicants propose to mitigate for the remaining desert tortoise impacts by acquiring 3,228.5 acres of higher quality desert tortoise habitat in an area adjacent to the Desert Tortoise Natural Area and translocating desert tortoises from the Hyundai site to a location that will be managed for the desert tortoise. Based on the survey results and habitat impacts, the Service concluded that implementation of the proposed project likely will result in take of less than 40 desert tortoises due to their translocation from the project site.

The Service's Environmental Assessment considers the environmental consequences of five alternatives, including: (1) The No Action Alternative, which consists of no permit issuance and no development on the Hyundai property at this time; (2) the On-Site Fencing Alternative, which consists of installing desert tortoise exclusion fencing around the test track and other features on the Hyundai property and moving tortoises outside the exclusion fence to adjacent areas on the Hyundai property; (3) the San Bernardino County Automotive Test Course Site, which consists of locating the project to a site within San Bernardino County; (4) the Riverside County Automotive Test Course Site, which consists of locating the project to a site within Riverside County; and (5) the Proposed Action, which consists of installing desert tortoise exclusion fence around the perimeter of the Hyundai property and relocating all desert tortoises to an off-site location. Except for the No Action Alternative, the alternatives to the Proposed Action would adversely affect more federally listed species than the Proposed Action Alternative.

This notice is provided pursuant to section 10(a) of the Act and the regulations of the National Environmental Policy Act (NEPA) of 1969 (40 CFR 1506.6). All comments that we receive, including names and addresses, will become part of the official administrative record and may be made available to the public. We will evaluate the application, associated documents, and comments submitted thereon to determine whether the application meets the requirements of NEPA regulations and section 10(a) of the Act. If we determine that those requirements are met, we will issue a permit to the Applicants for the incidental take of the desert tortoise.

Dated: July 18, 2003.
D. Kenneth McDermond,
Manager, California/Nevada Operations Office, Sacramento, California

[FR Doc. 03-18925 Filed 7-24-03; 8:45 am]

BILLING CODE 4310-55-P